DEPARTMENT OF TRANSPORTATION

Federal Aviation Administration

14 CFR Part 39

[Docket No. FAA-2020-0156; Product Identifier 2019-CE-053-AD; Amendment 39-21029; AD 2020-03-16]

RIN 2120-AA64

Airworthiness Directives; Textron Aviation Inc. (Type Certificate Previously Held by Cessna Aircraft Company)

AGENCY: Federal Aviation Administration (FAA), DOT.

ACTION: Final rule; request for comments.

SUMMARY: The FAA is adopting a new airworthiness directive (AD) for all Textron Aviation Inc. (Textron) (type certificate previously held by Cessna Aircraft Company) Models 210G, T210G, 210H, T210H, 210J, T210J, 210K, T210K, 210L, T210L, 210M, and T210M airplanes. This AD requires visual and eddy current inspections of the carry-thru spar lower cap, corrective action if necessary, application of a protective coating and corrosion inhibiting compound (CIC), and reporting the inspection results to the FAA. This AD was prompted by the in-flight break-up of a Model T210M airplane in Australia, due to fatigue cracking that initiated at a corrosion pit, and subsequent reports of other Model 210-series airplanes with widespread and severe corrosion. The FAA is issuing this AD to address the unsafe condition on these products.

DATES: This AD is effective March 9, 2020.

The Director of the Federal Register approved the incorporation by reference of a certain publication listed in this AD as of March 9, 2020.

The FAA must receive comments on this AD by April 6, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this final rule, contact Textron Aviation Inc. One Cessna Boulevard, Wichita, Kansas 67215; phone: (316) 517-6061; email: structures@txtav.com; internet: https://support.cessna.com. For information on the availability of this material at the FAA, call (816) 329-4148. It is also available on the internet at https://www.regulations.gov by searching for and locating Docket No. FAA-2020-0156.

Examining the AD Docket

You may examine the AD docket on the internet at https://www.regulations.gov by searching for and locating Docket No. FAA-2020-0156; or in person at Docket Operations between 9 a.m. and 5 p.m., Monday through Friday, except Federal holidays. The AD docket contains this final rule, the regulatory evaluation, any comments received, and other information. The street address for Docket Operations is listed above. Comments will be available in the AD docket shortly after receipt.

FOR FURTHER INFORMATION CONTACT: Bobbie Kroetch, Aerospace Engineer, Wichita ACO Branch, 1801 Airport Road, Room 100, Wichita, Kansas 67209; telephone: (316) 946-4155; fax: (316) 946-4107; email: bobbie.kroetch@faa.gov or Wichita-COS@faa.gov.

SUPPLEMENTARY INFORMATION:

Discussion

The FAA received a report that, on May 26, 2019, a Textron Model T210M airplane experienced an in-flight break-up while performing low-altitude aerial survey operations in Australia. The carry-thru spar failed and resulted in wing separation and loss of control of the airplane. A visual examination of the fracture surface identified fatigue cracking that initiated at a corrosion pit. The FAA issued an airworthiness concern sheet (ACS) on June 27, 2019, advising owners and operators of the accident and requesting relevant information about the fleet.

Following the ACS, the FAA received reports of widespread and severe corrosion of the carry-thru spar on Models 210G, T210G, 210H, T210H, 210J, T210J, 210K, T210K, 210L, T210L, 210M, and T210M airplanes. Further investigation identified that these early model airplanes were manufactured without corrosion protection or primer, increasing their susceptibility to corrosion. Additionally, the design of these early model airplanes, where the upper surface of the spar is exposed to the environment, allows a pathway for moisture intrusion. Model 210-series airplanes were also delivered with foam installed along the carry-thru spar lower cap. The foam traps moisture against the lower surface of the carry-thru spar cap, which can increase the development of corrosion.

Corrosion of the carry-thru spar lower cap can lead to fatigue cracking or reduced structural strength of the carry-thru spar, which could result in separation of the wing and loss of airplane control. The FAA is issuing this AD to address the unsafe condition on these products.

Related Service Information Under 1 CFR Part 51

The FAA reviewed Textron Aviation Mandatory Single Engine Service Letter SEL-57-08, Revision 1, dated November 19, 2019 (SEL-57-08 R1). This service information contains instructions for visually inspecting the carry-thru spar for corrosion, damage, and cracks and for completing an eddy current inspection. This service information also specifies applying protective coating and CIC.

This service information is reasonably available because the interested parties have access to it through their normal course of business or by the means identified in the ADDRESSES section.

Other Related Service Information

The FAA reviewed Textron Aviation Mandatory Single Engine Service Letter SEL-57-08, dated November 1, 2019, which contains the same instructions and repair criteria as SEL-57-08 R1.

The FAA also reviewed Textron Aviation Mandatory Single Engine Service Letter SEL-57-06, dated June 24, 2019, and Textron Aviation Mandatory Single Engine Service Letter SEL-57-06, Revision 1, dated November 19, 2019. This service information contains instructions for visually inspecting the carry-thru spar for corrosion and doing an eddy current inspection of the carry-thru spar regardless of whether corrosion is found and removed. This service information also contains instructions for applying CIC, but does not specify applying protective coating.

FAA's Determination

The FAA is issuing this AD because the FAA evaluated all the relevant information and determined the unsafe condition described previously is likely to exist or develop in other products of the same type design.

AD Requirements

This AD requires accomplishing the actions specified in SEL-57-08 R1 with the exception of the differences discussed in the Differences Between the AD and the Service Information section located below. This AD also requires reporting the inspection results to the FAA by email at Wichita-COS@faa.gov.

Differences Between the AD and the Service Information

• Although Textron SEL-57-08 R1 also applies to Models 210N, P210N, T210N, 210R, P210R, and T210R airplanes, this AD does not. Models 210N, P210N, T210N, 210R, P210R, and T210R airplanes were manufactured with corrosion protection. While the spars on these models are subject to corrosion, the reports the FAA has received indicate the corrosion is not as widespread or severe as on the earlier models manufactured without corrosion protection. Therefore, the FAA has determined to not include Models 210N, P210N, T210N, 210R, P210R, and T210R airplanes in this immediate AD action; however, the FAA may take AD action that applies to these models in the future.

• Textron SEL-57-08 R1 allows up to 12 months to comply with the actions in the service letter. Due to the widespread and severe corrosion affecting a substantial number of airplanes, this AD requires compliance no later than 60 days after the effective date of this AD.

• Textron SEL-57-08 R1 specifies inspecting all interior surfaces of the carry-thru spar, while this AD only requires inspecting the carry-thru spar lower cap, including the lower surface, edge, and upper surface of the lower cap. While the web and upper cap of the carry-thru spar may be susceptible to corrosion, evidence does not support including inspection of these areas as part of this AD. The FAA will continue to monitor reports of corrosion on all areas of the carry-thru spar for potential future action.

• Textron SEL-57-08 R1 does not require an eddy current inspection on the carry-thru spar unless the amount of material removed in the blended area exceeds 0.010 inch deep but is within limits. This AD requires eddy current inspection of all locations on the carry-thru spar where corrosion was removed. The fatigue crack on the Model T210M airplane that suffered the in-flight break-up initiated from a corrosion pit approximately 0.011 inch deep in the lower cap kick area. The less restrictive eddy current inspection requirements specified in SEL-57-08 R1 could potentially miss similar fatigue cracks on airplanes currently operating in the field.

• Textron SEL-57-08 R1 only requires an eddy current inspection of the lower cap kick of the carry-thru spar if corrosion is identified on the carry-thru spar cap. This AD requires a one-time eddy current inspection of the lower cap kick area of all affected airplanes, regardless of the results of the visual inspection. The fatigue crack on the Model T210M airplane that suffered the in-flight break-up initiated in the lower cap kick area. Cracks and corrosion damage may be difficult to identify through visual inspection alone. The FAA will use the results of the one-time eddy current inspection of the lower cap kick area, in part, to determine the necessity of future rulemaking action.

• Textron SEL-57-08 R1 specifies contacting Textron for evaluation and disposition of certain damage. Instead, this AD requires removing the carry-thru spar from service or repairing it (if possible) in accordance with the AMOC procedures identified in paragraph (o) of this AD. Operators should work with Textron to develop a repair in support of an AMOC request.

• Textron SEL-57-08 R1 provides instruction allowing airplanes that have complied with SEL-57-06 to complete the application of the protective coating and CIC within 200 flight hours or at the next annual inspection, whichever occurs first. This AD permits those airplanes that have complied with the visual and eddy current inspections in SEL-57-06, as required in paragraphs (g) and (h) of this AD, to complete the application of the protective coating and CIC within 12 months from the date of the visual and eddy current inspections.

Interim Action

The FAA considers this AD interim action. This AD requires a one-time visual inspection of specified areas on the carry-thru spar lower cap and an eddy current inspection of the lower cap kick area and any locations where corrosion was removed. This AD also requires reporting the inspection results to the FAA. The FAA will analyze the inspection results received to determine further rulemaking action.

FAA's Justification and Determination of the Effective Date

An unsafe condition exists that requires the immediate adoption of this AD without providing an opportunity for public comments prior to adoption. The FAA has found that the risk to the flying public justifies waiving notice and comment prior to adoption of this rule because of a severe and widespread corrosion issue affecting the carry-thru spar lower cap on some Textron Model 210-series airplanes. As of January 29, 2020, Textron has received 194 inspection reports on Models 210G, T210G, 210H, T210H, 210J, T210J, 210K, T210K, 210L, T210L, 210M, and T210M airplanes. Of these 194 reports, 96 airplanes have reported corrosion (49 percent) with 18 of those reports (9 percent) resulting in removing the carry-thru spar from service. The corrosion observed included several instances of exfoliation corrosion and stress corrosion cracking. The FAA has determined that the large number of corrosion reports and the severity of the corrosion identified on a critical single load path part necessitate issuance of an immediately adopted rule. If the corrosion initiates a fatigue crack or affects the carry-thru spar's ability to support the required structural loads, the airplane may suffer a catastrophic failure. Therefore, the FAA finds good cause that notice and opportunity for prior public comment are impracticable. In addition, for the reasons stated above, the FAA finds that good cause exists for making this amendment effective in less than 30 days.

Comments Invited

This AD is a final rule that involves requirements affecting flight safety and was not preceded by notice and an opportunity for public comment. However, the FAA invites you to send any written data, views, or arguments about this final rule. Send your comments to an address listed under the ADDRESSES section. Include the Docket Number FAA-2020-0156 and Product Identifier 2019-CE-053-AD at the beginning of your comments. The FAA specifically invites comments on the overall regulatory, economic, environmental, and energy aspects of this final rule. The FAA will consider all comments received by the closing date and may amend this final rule because of those comments.

The FAA will post all comments the FAA receives, without change, to https://www.regulations.gov, including any personal information you provide. The FAA will also post a report summarizing each substantive verbal contact the FAA receives about this final rule.

Costs of Compliance

The FAA estimates that this AD affects 1,520 airplanes of U.S. registry.

The FAA estimates the following costs to comply with this AD:

Estimated Costs
Action | Labor cost | Parts cost | Cost per product | Cost on U.S. operators
Inspections (includes part removal for access, removal of foam, visual inspection, eddy current inspection of the cap kick area, application of primer and corrosion inhibitor and reassembly) | 15.5 work-hours × $85 per hour = $1,317.50 | $340 | $1,657.50 | $2,519,400
Report of inspection results | 2 work-hours × $85 per hour = $170 | Not applicable | 170 | 258,400

The FAA estimates the following costs to do any necessary repairs based on the results of the inspection. The FAA has no way of determining the number of airplanes that might need these repairs:

On-Condition Costs
Action | Labor cost | Parts cost | Cost per product
Corrosion removal | 2 work-hours × $85 per hour = $170 | Not applicable | $170
On-condition eddy current inspection | 1 work-hour × $85 per hour = $85 | Not applicable | 85
Spar replacement | 160 work-hours × $85 per hour = $13,600 | $30,000 | 43,600

The amount of work-hours necessary to complete the eddy current inspection and remove the corrosion will depend on the extent of the corrosion on the spar. The FAA has no way of estimating the work-hours that may be required for those procedures. The FAA's cost estimate assumes a minimum of one hour for the eddy current inspection and two hours for the corrosion removal. Replacement spars are not currently available from Textron. Textron no longer produces the current spar design, and they are working to develop a new spar design. The FAA does not have data to determine the availability of replacement spars from other sources.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 2 hours per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Act

The requirements of the Regulatory Flexibility Act (RFA) do not apply when an agency finds good cause pursuant to 5 U.S.C. 553 to adopt a rule without prior notice and comment. Because FAA has determined that it has good cause to adopt this rule without notice and comment, RFA analysis is not required.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-03-16 Textron Aviation Inc. (type certificate previously held by Cessna Aircraft Company): Amendment 39-21029; Docket No. FAA-2020-0156; Product Identifier 2019-CE-053-AD.

(a) Effective Date

This AD is effective March 9, 2020.

(b) Affected ADs

None.

(c) Applicability

This AD applies to Textron Aviation Inc. (type certificate previously held by Cessna Aircraft Company) Models 210G, T210G, 210H, T210H, 210J, T210J, 210K, T210K, 210L, T210L, 210M, and T210M airplanes, all serial numbers, certificated in any category.

(d) Subject

Joint Aircraft System Component (JASC)/Air Transport Association (ATA) of America Code 5310, Fuselage Main, Structure.

(e) Unsafe Condition

This AD was prompted by the in-flight break-up of a Model T210M airplane due to fatigue cracking of the carry-thru spar that initiated at a corrosion pit and subsequent reports of other Model 210-series airplanes with widespread and severe corrosion. The FAA is issuing this AD to detect and correct cracks, corrosion, and other damage of the carry-thru spar lower cap, which, if not corrected, could lead to the carry-thru spar being unable to support the required structural loads and could result in separation of the wing and loss of airplane control.

(f) Compliance

Comply with this AD within the compliance times specified, unless already done.

(g) Visual Inspection

Within 60 days after March 9, 2020 (the effective date of this AD) or within the next 20 hours time-in-service (TIS) after March 9, 2020 (the effective date of this AD), whichever occurs first, prepare the carry-thru spar lower cap for inspection by following steps 4 and 5 of the Accomplishment Instructions in Textron Aviation Mandatory Single Engine Service Letter SEL-57-08, Revision 1, dated November 19, 2019 (SEL-57-08 R1). Visually inspect the carry-thru spar lower cap (including the lower surface, upper surface, and edge) with a 10X magnification lens looking for corrosion, cracks, and damage. You are not required to inspect the lower cap to web radius, spar web, or upper cap. Refer to the `Spar Dimensions' figure on page 6 and the `Spar Detail' figure on page 7 of SEL-57-08 R1 for the location of the specific spar features.

(1) If there is a crack, before further flight, remove the carry-thru spar from service.

(2) If there is damage or evidence of previous removal of corrosion (blending), before further flight, either remove the carry-thru spar from service or repair the area using a method approved as specified in paragraph (o) of this AD. Comply with the requirements in paragraph (h) of this AD before further flight.

(3) If there is any corrosion, before further flight, remove the corrosion in the affected area by following steps 6.B.(1) through (7) of the Accomplishment Instructions in SEL-57-08 R1 and then mechanically measure the depth of the blended area using a straight edge and feeler gauge or a depth gauge micrometer.

(i) If the material removed in the blended area exceeds the allowable blend limits specified in table 1 (including the notes) of SEL-57-08 R1, before further flight, either remove the carry-thru spar from service or repair the area using a method approved as specified in paragraph (o) of this AD. Comply with the requirements in paragraph (h) of this AD before further flight.

(ii) If the material removed in the blended area does not exceed the allowable blend limits specified in table 1 (including the notes) of SEL-57-08 R1, comply with the requirements in paragraph (h) of this AD before further flight.

(4) If the visual inspection did not detect corrosion, cracks, or damage and there is no evidence of previous removal of corrosion, comply with the requirements in paragraph (h) of this AD before further flight.

(h) Eddy Current Inspection

(1) Complete an eddy current inspection of the carry-thru spar lower cap for cracks, corrosions, and damage in the following areas in accordance with step 7 of the Accomplishment Instructions in SEL-57-08 R1.

(i) The kick area as depicted in the `Spar Dimensions' figure on page 6 of SEL-57-08 R1. You must complete an eddy current inspection of the lower cap kick area of your airplane regardless of whether corrosion was found as a result of the visual inspection in paragraph (g) of this AD.

(ii) All areas where corrosion was found and removed as a result of the inspection in paragraph (g) of this AD.

(2) If there is a crack, before further flight, remove the carry-thru spar from service.

(3) If there is any damage, before further flight, either remove the carry-thru spar from service or repair the area using a method approved as specified in paragraph (o) of this AD. After completing the repair, repeat the eddy current inspection of the repaired area before further flight.

(4) If there is any corrosion, before further flight, remove the corrosion by following the requirements in paragraph (g)(3) of this AD. You must repeat the eddy current inspection and comply with paragraph (h) of this AD for the area where the additional material was removed, but you do not have to repeat the eddy current inspection of the kick area.

(i) Corrosion Protection

Before further flight after completing the eddy current inspection in paragraph (h) of this AD, apply protective coating and corrosion inhibiting compound (CIC) by following steps 9 and 10 of the Accomplishment Instructions in SEL-57-08 R1.

(j) Installation Prohibition

As of March 9, 2020 (the effective date of this AD), do not install on any airplane a carry-thru spar unless it has been inspected as required by paragraphs (g) and (h) of this AD and corrosion protection applied as required by paragraph (i).

(k) Reporting Requirement

Within 10 days after completing the inspections required by this AD or within 10 days after March 9, 2020 (the effective date of this AD), whichever occurs later, report to the FAA by email (Wichita-COS@faa.gov) all information requested in the Carry-Thru Spar Inspection Report Attachment to SEL-57-08 R1.

(l) Credit for Previous Actions

(1) You may take credit for the visual inspection required by paragraph (g) of this AD if you performed the visual inspection before March 9, 2020 (the effective date of this AD) using Textron Aviation Mandatory Single Engine Service Letter SEL-57-08, dated November 1, 2019 (SEL-57-08); Textron Aviation Mandatory Single Engine Service Letter SEL-57-06, dated June 24, 2019 (SEL-57-06); or Textron Aviation Mandatory Single Engine Service Letter SEL-57-06, Revision 1, dated November 19, 2019 (SEL-57-06 R1).

(2) You may take credit for the eddy current inspection of the lower cap kick area and all locations where corrosion was removed on the carry-thru spar lower cap as specified in paragraph (h) of this AD if you performed the eddy current inspection before March 9, 2020 (the effective date of this AD) using SEL-57-08, SEL-57-06, or SEL-57-06 R1.

(3) You may take credit for the corrosion protection required by paragraph (i) of this AD if you performed those actions before March 9, 2020 (the effective date of this AD) using SEL-57-08.

(4) If you can take credit for the visual and eddy current inspections as specified in paragraphs (l)(1) and (2) of this AD but you did not apply protective coating and CIC to the spar, you must apply protective coating and CIC by following steps 9 and 10 of the Accomplishment Instructions in Textron SEL-57-08 R1 within 12 months after the date you completed the visual and eddy current inspections.

(5) To take credit for any previous action, you must have provided a completed Carry-Thru Spar Inspection Report, an attachment to Textron SEL-57-06, Textron SEL-57-06 R1, or Textron SEL-57-08 to Textron Aviation Inc. before March 9, 2020 (the effective date of this AD), or you must comply with paragraph (k) of this AD within 10 days after March 9, 2020 (the effective date of this AD).

(m) Special Flight Permit

Special flight permits are prohibited.

(n) Paperwork Reduction Act Burden Statement

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 2 hours per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

(o) Alternative Methods of Compliance (AMOCs)

(1) The Manager, Wichita ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (p) of this AD.

(2) Before using any approved AMOC, notify your appropriate principal inspector, or lacking a principal inspector, the manager of the local flight standards district office/certificate holding district office.

(3) An AMOC that provides an acceptable level of safety may be used for any repair, modification, or alteration required by this AD if it is approved by a Textron Aviation, Inc. Unit Member (UM) of the Textron Organization Designation Authorization (ODA), that has been authorized by the Manager, Wichita ACO Branch, to make those findings. To be approved, the repair, modification deviation, or alteration deviation must meet the certification basis of the airplane, and the approval must specifically refer to this AD.

(p) Related Information

For more information about this AD, contact Bobbie Kroetch, Aerospace Engineer, Wichita ACO Branch, 1801 Airport Road, Room 100, Wichita, Kansas 67209; telephone: (316) 946-4155; fax: (316) 946-4107; email: bobbie.kroetch@faa.gov or Wichita-COS@faa.gov.

(q) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Textron Aviation Mandatory Service Letter SEL-57-08, Revision 1, dated November 19, 2019.

(ii) [Reserved]

(3) For the service information identified in this AD, contact Textron Aviation Inc., One Cessna Boulevard, Wichita, Kansas 67215, phone: (316) 517-6061; email: structures@txtav.com; internet: https://support.cessna.com.

(4) You may view this service information at FAA, Policy and Innovation Division, 901 Locust, Kansas City, Missouri 64106. For information on the availability of this material at the FAA, call (816) 329-4148.

(5) You may view this service information that is incorporated by reference at the National Archives and Records Administration (NARA). For information on the availability of this material at NARA, email: fedreg.legal@nara.gov, or go to: https://www.archives.gov/federal-register/cfr/ibr-locations.html.

Issued on February 13, 2020.
Lance T. Gant,
Aircraft Certification Service, Director, Compliance and Airworthiness Division, AIR-700.

[FR Doc. 2020-03276 Filed 2-20-20; 8:45 am]

BILLING CODE 4910-13-P